FEDERAL RESERVE SYSTEM

Formations of, Acquisitions by, and Mergers of Bank Holding Companies; Correction

This notice corrects a notice (FR Doc. 2015-27768) published on page 67405 of the issue for Monday, November 2, 2015.

Under the Federal Reserve Bank of Boston heading, the entry for ESB Bancorp MHC, Easthampton, Massachusetts, is revised to read as follows:

A. Federal Reserve Bank of Boston (Prabal Chakrabarti, Senior Vice President) 600 Atlantic Avenue, Boston, Massachusetts 02210-2204:

1. ESB Bancorp MHC, Easthampton, Massachusetts; (“ESB MHC”) to merge with Hometown Community Bancorp MHC, Oxford, Massachusetts (“Hometown MHC”), with ESB MHC as the surviving entity to be known as “Hometown Financial Group, MHC”; and ii) ESB Bancorp, Inc., Easthampton, Massachusetts (“ESB Bancorp”), to merge with Hometown Community Bancorp, Inc., Oxford, Massachusetts (“Hometown Bancorp”), with ESB Bancorp as the surviving entity to be known as “Hometown Financial Group, Inc. Upon consummation of the merger, Easthampton Savings Bank and Hometown Bank will remain separate wholly-owned subsidiaries of Hometown Financial Group, Inc.

Comments on this application must be received by November 27, 2015.

Board of Governors of the Federal Reserve System, November 4, 2015.
Michael J. Lewandowski,
Associate Secretary of the Board.

[FR Doc. 2015-28467 Filed 11-9-15; 8:45 am]

BILLING CODE 6210-01-P